DEPARTMENT OF DEFENSE

GENERAL SERVICES ADMINISTRATION

NATIONAL AERONAUTICS AND SPACE ADMINISTRATION

48 CFR Part 52

[FAC 2020-07; FAR Case 2018-005; Item IV; Docket No. FAR-2018-0006, Sequence No. 1]

RIN 9000-AN69

Federal Acquisition Regulation: Modifications to Cost or Pricing Data Requirements; Corrections

AGENCY: Department of Defense (DoD), General Services Administration (GSA), and National Aeronautics and Space Administration (NASA).

ACTION: Final rule; corrections.

SUMMARY: DoD, GSA, and NASA are issuing a correction to FAC 2020-07; FAR Case 2018-005; Modifications to Cost or Pricing Data Requirements; Item IV; which published in the Federal Register on July 2, 2020. This correction makes editorial changes to correct erroneous dates to the affected FAR sections.

DATES: Effective: August 28, 2020.

FOR FURTHER INFORMATION CONTACT: Ms. Zenaida Delgado, Procurement Analyst, at 202-969-7207 or zenaida.delgado@gsa.gov for clarification of content. For information pertaining to status or publication schedules, contact the Regulatory Secretariat Division at 202-501-4755 or GSARegSec@gsa.gov. Please cite FAC 2020-07, FAR Case 2018-005; Corrections.

SUPPLEMENTARY INFORMATION:

Corrections

In rule FR Doc. 2020-12765, published in the Federal Register at 85 FR 40071, on July 2, 2020, make the following corrections:

52.214-28 [Corrected]

1. On page 40074, in the first column, in amendatory instruction number 6, make the following corrections:

a. In the heading “Subcontractor Certified Cost or Pricing Data—Modifications—Sealed Bidding”, remove “(May 2020)” and add “(Jun 2020)” in its place; and

b. After the words “Alternate I”, remove “(AUG 20)” and add “(AUG 2020)” in its place.

52.215-12 [Corrected]

2. On page 40074, in the second column, in amendatory instruction number 7, make the following corrections:

a. In the heading “Subcontractor Certified Cost or Pricing Data”, remove “(May 2020)” and add “(Jun 2020)” in its place; and

b. After the words “Alternate I”, remove “(AUG 20)” and add “(AUG 2020)” in its place.

52.215-13 [Corrected]

3. On page 40074, in the second column, in amendatory instruction number 8, make the following corrections:

a. In the heading “Subcontractor Certified Cost or Pricing Data—Modifications”, remove “(May 2020)” and adding “(Jun 2020)” in its place; and

b. After the words “Alternate I”, remove “(AUG 20)” and add “(AUG 2020)” in its place.

William F. Clark,
Director, Office of Government-wide Acquisition Policy, Office of Acquisition Policy, Office of Government-wide Policy.

[FR Doc. 2020-16975 Filed 8-27-20; 8:45 am]

BILLING CODE 6820-EP-P